SECURITIES AND EXCHANGE COMMISSION

[File No. 500-1]

In the Matter of Environmental Safeguards, Inc., Garden Botanika, Inc., Northwestern Steel & Wire Co., Paul Harris Stores, Inc., Ultra Motorcycle Co., UStel, Inc., and Yarc Systems Corp.; Order of Suspension of Trading

August 23, 2007.

It appears to the Securities and Exchange Commission that there is a lack of current and accurate information concerning the securities of Environmental Safeguards, Inc. because it has not filed any periodic reports since it filed a Form 10-QSB for the period ended June 30, 2004.

It appears to the Securities and Exchange Commission that there is a lack of current and accurate information concerning the securities of Garden Botanika, Inc. because it has not filed any periodic reports since it filed a Form 10-Q for the period ended October 28, 2000.

It appears to the Securities and Exchange Commission that there is a lack of current and accurate information concerning the securities of Northwestern Steel & Wire Co. because it has not filed any periodic reports since it filed a Form 10-Q for the period ended January 31, 2001.

It appears to the Securities and Exchange Commission that there is a lack of current and accurate information concerning the securities of Paul Harris Stores, Inc. because it has not filed any periodic reports since it filed a Form 10-Q for the period ended October 28, 2000.

It appears to the Securities and Exchange Commission that there is a lack of current and accurate information concerning the securities of Ultra Motorcycle Co. because it has not filed any periodic reports since it filed a Form 10-QSB for the period ended March 31, 2001.

It appears to the Securities and Exchange Commission that there is a lack of current and accurate information concerning the securities of UStel, Inc. because it has not filed any periodic reports since it filed a Form 10-QSB for the period ended September 30, 1998.

It appears to the Securities and Exchange Commission that there is a lack of current and accurate information concerning the securities of Yarc Systems Corp. because it has not filed any periodic reports since it filed a Form 10-KSB for the period ended January 31, 2000.

The Commission is of the opinion that the public interest and the protection of investors require a suspension of trading in the securities of the above-listed companies.

Therefore, it is ordered, pursuant to Section 12(k) of the Securities Exchange Act of 1934, that trading in the above-listed companies is suspended for the period from 9:30 a.m. EDT on August 23, 2007, through 11:59 p.m. EDT on September 6, 2007.

By the Commission.
Nancy M. Morris,
Secretary.

[FR Doc. 07-4200 Filed 8-23-07; 9:51 am]

BILLING CODE 8010-01-P